CORPORATION FOR NATIONAL AND COMMUNITY SERVICE

Sunshine Act Meeting Notice

The White House Council for Community Solutions Gives Notice of Their Following Meeting

DATE AND TIME: Friday, October 14, 2011, 9 a.m.-12:30 p.m. Eastern Daylight Time.

PLACE: The Council will meet in the Eisenhower Executive Office Building. This meeting will be streamed live for public viewing and a link will be available on the council's Web site: http://www.serve.gov/communitysolutions.

PUBLIC COMMENT: The public is invited to submit publicly available comments through the Council's Web site. To send statements to the Council, please send written statements to the Council's electronic mailbox at WhiteHouseCouncil@cns.gov. The public can also follow the Council's work by visiting its Web site: http://www.serve.gov/communitysolutions.

STATUS: Open.

MATTERS TO BE CONSIDERED: The purpose of this meeting is to review what the Council has learned through its outreach and other efforts about the following: (1) Effective cross-sector collaborative initiatives and what makes them best practices, and (2) issues facing young Americans who are neither in school nor in the workplace and promising solutions to address this challenge.

CONTACT PERSON FOR MORE INFORMATION: Leslie Boissiere, Executive Director, White House Council for Community Solutions, Corporation for National and Community Service, 10th Floor, Room 10911, 1201 New York Avenue, NW., Washington, DC 20525. Phone (202) 606-3910. Fax (202) 606-3464. E-mail: lboissiere@cns.gov.

Dated: September 26, 2011.
Leslie Boissiere,
Executive Director.

[FR Doc. 2011-25151 Filed 9-26-11; 4:15 pm]

BILLING CODE 6050-$$-P